DEPARTMENT OF COMMERCE

National Oceanic and Atmospheric Administration

50 CFR Part 660

[Docket No. 250623-0103]

RIN 0648-BN47

Magnuson-Stevens Act Provisions; Fisheries Off West Coast States; Pacific Coast Groundfish Fishery; 2025 Pacific Whiting U.S. Total Allowable Catch, 2025 Tribal Allocation, 2025 Incidental Set-Aside, and Annual Specifications for 2025 Non-Tribal Fisheries

AGENCY: National Marine Fisheries Service (NMFS), National Oceanic and Atmospheric Administration (NOAA), Commerce.

ACTION: Final rule.

SUMMARY: This final rule announces the 2025 U.S. Total Allowable Catch of Pacific whiting and implements the domestic 2025 harvest specifications for Pacific whiting fisheries off the coasts of Washington, Oregon, and California (collectively, the West Coast), including the 2025 Tribal allocation for the Pacific whiting fishery, the non-Tribal fishery Harvest Guideline and sector allocations, and a set-aside for research activities and incidental mortality in non-groundfish fisheries. These measures are intended to help prevent overfishing, achieve optimum yield, ensure that management measures are based on the best scientific information available, and provide for the implementation of Tribal treaty fishing rights.

DATES: Effective June 26, 2025.

ADDRESSES:

Electronic Access

This final rule is accessible via the internet at the Office of the Federal Register website at: https://www.federalregister.gov.

Background information for this action and analytical documents for the Regulatory Flexibility Act (RFA), and National Environmental Policy Act (NEPA) are available at the NMFS West Coast region website at: https://www.fisheries.noaa.gov/action/2025-pacific-whiting-us-total-allowable-catch-2025-tribal-allocation-2025-incidental-set.

NEPA documents for West Coast groundfish actions are also available at: https://www.fisheries.noaa.gov/west-coast/laws-and-policies/groundfish-actions-nepa-documents and at the Pacific Fishery Management Council's (Council) website at: http://www.pcouncil.org.

Additional background information for the Pacific Hake/Whiting Treaty can be found at: https://www.fisheries.noaa.gov/west-coast/laws-policies/pacific-hake-whiting-treaty.

FOR FURTHER INFORMATION CONTACT: Colin Sayre, phone: 206-526-4656, and email: Colin.Sayre@noaa.gov.

SUPPLEMENTARY INFORMATION:

Background

The final rule announces the U.S. total allowable catch (TAC) for Pacific whiting, which was determined under the terms of the Agreement Between the Government of the United States of America and the Government of Canada on Pacific Hake/Whiting of 2003 (Agreement). This final rule also establishes a Tribal Pacific whiting allocation based on a percentage of the recommended U.S. TAC of Pacific whiting, a 2025 set-aside for research and incidental mortality in non-groundfish fisheries, and the 2025 Harvest Guideline (HG) and sector allocations for the non-Tribal commercial Pacific whiting fishery. NMFS implements these actions under the authority of the Pacific Coast Groundfish Fishery Management Plan (FMP), sections 304(b) and 305(d) of the Magnuson-Stevens Fishery Conservation and Management Act (Magnuson-Stevens Act), the Pacific Whiting Act of 2006 (Whiting Act), and other applicable laws.

The Tribal and non-Tribal commercial Pacific whiting fisheries open on May 1 of each year. The Tribal and non-Tribal commercial sector allocations for Pacific whiting, as well as set-asides, are effective until December 31, 2025.

Pacific Whiting Agreement

The transboundary stock of Pacific whiting is managed through the Agreement. The Agreement establishes bilateral management bodies to implement the terms of the Agreement. The bilateral bodies include: the Joint Management Committee (JMC), which recommends the annual catch limit for Pacific whiting; the Joint Technical Committee (JTC), which conducts the Pacific whiting stock assessment; the Scientific Review Group (SRG), which reviews the stock assessment; and the Advisory Panel (AP), which provides stakeholder input to the JMC. NMFS issued a proposed rule on April 15, 2025 (90 FR 15675) that further describes the Agreement, the distribution of the Pacific whiting coastwide TAC between the United States (73.88 percent) and Canada (26.12 percent), the bilateral bodies to implement the terms of the Agreement, including the JMC, and the process used to determine the coastwide TAC under the Agreement.

2025 TAC Recommendation and Approval

The Treaty's AP and the JMC met in Victoria, British Columbia on March 11-13, 2025, to develop advice on a 2025 coastwide TAC. The AP provided its 2025 TAC recommendation to the JMC on March 12, 2025. The JMC reviewed the advice of the JTC, the SRG, and the AP, and agreed on a TAC recommendation for transmittal to the United States and Canadian Governments.

The Agreement directs the JMC to base the catch limit recommendation on the F-40 default harvest rate, unless scientific evidence demonstrates that a different harvest rate is necessary to sustain the offshore Pacific whiting resource. The F-40 default harvest rate is a fishing mortality rate that would reduce the spawning biomass of Pacific whiting to 40 percent of the estimated unfished level. After consideration of the 2025 stock assessment and other relevant scientific information, the JMC did not use the default harvest rate, and instead agreed on a more conservative approach. There were 4 primary reasons for choosing a TAC below the default harvest rate: (1) the last available survey biomass estimate (from 2023) was the third lowest in the time series; (2) the proportion of fish in Canadian waters was at an all-time low; (3) catch attainment for both countries declined in the last two years reaching all-time lows relative to their respective TAC levels in 2024; and (4) the biomass of whiting has shifted south in both 2023 and 2024 resulting in lower observed biomass off Washington and Oregon, and higher biomass off of California waters. Further, long-term trends in acoustic survey biomass show lower proportions of whiting migrating into Canadian waters. The JMC concluded that these factors warranted setting the coastwide TAC below the 2024 value of 555,000 metric tons (mt), and lower than the level that would result from application of the F-40 default harvest rate. This conservative approach was endorsed by the AP and is consistent with Article III.1. of the Agreement.

The Agreement allows an adjusted TAC when either country's catch exceeds or is less than its TAC in the prior year. If the catch is in excess of the country's TAC, the amount of the overage is deducted from that country's TAC in the following year. If catch falls short of the country's TAC, a portion of the shortfall is carried over and added to the country's TAC for the following year. Under the Agreement, carryover adjustments cannot not exceed 15 percent of a party country's unadjusted TAC for the year in which the shortfall occurred. In 2024, neither country fully attained their respective TACs. The percentage of the U.S. TAC attained for 2024 is detailed in the Final Regulatory Flexibility Analysis (FRFA) (see the ADDRESSES section), which is summarized in the Classification section below.

For the 2025 Pacific whiting fishery, the JMC recommended an unadjusted coastwide TAC of 328,973 mt. Based on Article III.2 of the Agreement, the Canadian share of the unadjusted coastwide TAC is 26.12 percent (85,928 mt) and the U.S. share is 73.88 percent (243,045 mt). Consistent with Article II.5(b) of the Agreement, an adjustment (carryover from 2024) of 18,552 mt is added to the Canadian share, for an adjusted Canadian TAC of 104,480 mt. In the same manner, an adjustment of 52,475 mt is added to the United States share, for an adjusted United States TAC of 295,520 mt. This results in a coastwide adjusted TAC of 400,000 mt for 2025.

This recommendation is consistent with the best available scientific information and provisions of the Agreement. The recommendation was transmitted via letter to the United States and Canadian Governments on March 13, 2025. NMFS, under delegation of authority from the Secretary of Commerce (Secretary), approved the TAC recommendation of 243,045 mt for U.S. fisheries on April 17, 2025.

This final rule announces the adjusted coastwide TAC of 400,000 mt and an adjusted U.S. TAC of 295,520 mt.

Tribal Allocations

This final rule establishes the Tribal allocation of Pacific whiting for 2025. Four Washington coastal treaty Indian Tribes—the Makah Indian Tribe, the Quileute Indian Tribe, the Quinault Indian Nation, and the Hoh Indian Tribe (collectively, the Treaty Tribes)—can participate in the Tribal Pacific whiting fishery. The regulations at 50 CFR 660.50(d) identify the procedures for implementing the treaty rights that Pacific Coast Treaty Tribes have to harvest groundfish in their usual and accustomed fishing areas in U.S. waters, including the process by which Tribes with treaty fishing rights in the area covered by the FMP request allocations, set-asides, or regulations specific to the Treaty Tribes. 50 CFR 660.50(d) provides that the Secretary will develop Tribal allocations and regulations in consultation with the affected Treaty Tribes and, insofar as possible, with Tribal agreement.

NMFS allocates a portion of the U.S. TAC of Pacific whiting to the Tribal fishery following the process established in 50 CFR 660.50(d). The Tribal allocation is subtracted from the U.S. Pacific whiting TAC before allocation to the non-Tribal sectors.

In its proposed rule issued on April 15, 2025 (90 FR 15675), NMFS described the Tribal allocation as 17.5 percent of the U.S. TAC, and projected a range of potential Tribal allocations for 2025 based on a range of U.S. TACs over the last 10 years (plus or minus 15 percent to capture variability in stock abundance). The proposed rule used a range of U.S. TACs because the 2025 U.S. TAC was not approved before the proposed rule publication date. As described in the proposed rule, the resulting range of potential Tribal allocations was 48,354 mt and 92,927 mt. Applying the approach described in the proposed rule, NMFS is establishing the 2025 Tribal allocation of 51,716 mt in this final rule, which is 17.5 percent of the U.S. TAC of 295,520 mt.

As with prior Tribal allocations of Pacific whiting, this final rule is not intended to establish a precedent for future Pacific whiting seasons, or for the determination of the total amount of Pacific whiting to which the Tribes are entitled under their treaty right. In 2009, NMFS, the States of Washington and Oregon, and the coastal treaty Tribes started a process to determine the long-term Tribal allocation for Pacific whiting; however, no long-term allocation has been determined. The long-term Tribal treaty amount will be based on further development of scientific information and additional coordination and discussion with and among the coastal treaty Tribes and the States of Washington and Oregon.

Set-Asides for Research and Incidental Mortality in Non-Groundfish Fisheries

The U.S. non-Tribal whiting fishery is managed under the FMP. Each year, the Council recommends a set-aside to accommodate research activities and incidental mortality in non-groundfish fisheries (e.g., pink shrimp) based on estimates of scientific research catch and estimated bycatch mortality in non-groundfish fisheries (50 CFR 660.55(j)). At its November 2024 meeting, the Council recommended a research and incidental mortality set-aside of 750 mt for 2025, which would be unchanged from 2024. This final rule implements the Council's recommendation for a 750 mt set-aside for 2025.

Non-Tribal Harvest Guideline and Allocations

This final rule implements the fishery HG (i.e., the non-Tribal allocation) and non-Tribal commercial sector allocations for Pacific whiting for 2025. NMFS did not include the non-Tribal HG and sector allocations in the proposed rule due to the timing of the TAC recommendation and approval process under the Agreement and the Whiting Act. The non-Tribal HG and sector allocations could not be determined for the proposed rule because they are based on the U.S. TAC. NMFS, under delegation of authority from the Secretary of Commerce, approved the U.S. TAC for Pacific whiting on April 17, 2025, which was after the publication of the proposed ruled. The U.S. Agreement committees and interested parties were notified via direct email when the TAC was approved, and interim sector allocations were issued to open the fishery, on May 1.

Each year NMFS establishes the non-Tribal fishery HG for Pacific whiting and distributes it to the non-Tribal sectors according to the commercial allocation structure in the FMP section 6.3.2.2 and regulations at 50 CFR 660.55(i)(2). To determine the 2025 non-Tribal fishery HG, the 2025 Tribal allocation of 51,716 mt, and the 750 mt set-aside for research and incidental mortality are deducted from the total adjusted U.S. TAC of 295,520 mt, resulting in a fishery HG of 243,054 mt.

The HG is then allocated among the three non-Tribal sectors of the Pacific whiting fishery: The Catcher/Processor (C/P) Co-op Program, the Mothership (MS) Co-op Program and the Shorebased Individual Fishing Quota (IFQ) Program. The C/P Co-op Program is allocated 34 percent (82,638.36 mt for 2025), the MS Co-op Program is allocated 24 percent (58,332.96 mt for 2025), and the Shorebased IFQ Program is allocated 42 percent (102,082.68 mt for 2025). These commercial sector allocations are summarized in table 1 below. The fishery south of 42° N lat. may not take more than 7,088 mt (5 percent of the Shorebased IFQ Program allocation) prior to May 1, the start of the primary Pacific whiting season north of 42° N lat.

Table 1—2025 U.S. Pacific Whiting Allocations in Metric Tons
Sector | 2025 Pacific whiting allocation (mt)
Tribal | 51,716
Catcher/Processor (C/P) Co-op Program | 82,638.36
Mothership (MS) Co-op Program | 58,332.96
Shorebased IFQ Program | 102,082.68

Comments and Responses

NMFS issued a proposed rule on April 15, 2025 (90 FR 15675). The comment period on the proposed rule closed April 30, 2025. NMFS received three comments from individuals during the comment period. Two of the comments received supported the action. Neither of those comments included further recommendations for changes to the proposed action. The third comment received was not relevant to this rulemaking.

Changes From the Proposed Rule

No substantive changes from the proposed action were made to the final action based on the relevant comments received.

Classification

This final rule is implemented under the statutory and regulatory authority of sections 304(b) and 305(d) of the Magnuson-Stevens Act, the Whiting Act, the regulations governing the groundfish fishery at 50 CFR 660.5-660.360, and other applicable laws. NMFS is using section 305(d) of the Magnuson-Stevens Act for the Tribal allocation because in a previous action taken pursuant to section 304(b), the FMP and its implementing regulations authorize NMFS to take action pursuant to Magnuson-Stevens Act section 305(d).

The NMFS Assistant Administrator has determined that this final rule is consistent with sections 304(b)(1)(a) and 305(d) of the Magnuson-Stevens Act, the Whiting Act, the regulations governing the groundfish fishery at 50 CFR 660.5-660.360, and other applicable laws. Additionally, pursuant to Magnuson-Stevens Act section 305(d), this action is necessary to carry out Tribal allocations, set-asides, and regulations pursuant to FMP section 6.2.5 and 50 CFR 660.50(d)(1) because with this rule, NMFS will ensure that the fishery is managed in a manner consistent with treaty rights of the four Treaty Tribes to fish in their “usual and accustomed grounds and stations” in common with non-Tribal citizens (United States v. Washington, 384 F. Supp. 313 (W.D. Wash. 1974)).

Pursuant to Executive Order 13175, this action was developed after meaningful and timely consultation with Tribal officials from the area covered by the FMP. NMFS consulted with the Treaty Tribes per requirements under the MSA at 16 U.S.C. 1852(b)(5), wherein one of the voting members of the Pacific Council must be a representative of an Indian Tribe with federally recognized fishing rights from the area of the Council's jurisdiction. In addition, NMFS invited consultation on this action through exchanged emails with Tribal officials leading up to the development of the rule and through this rule will implement the allocation requested by the Makah Indian Tribe. Regulations implementing the FMP establish a procedure by which the Tribes with treaty fishing rights in the area covered by the FMP request allocations or regulations specific to the Tribes, in writing, before the first of the two meetings at which the Council considers groundfish management measures. The regulations at 50 CFR 660.50(d)(2) further state that the Secretary will develop Tribal allocations and regulations under this paragraph in consultation with the affected Tribe(s) and, insofar as possible, with Tribal consensus.

Pursuant to 5 U.S.C. 553(d)(3), the NMFS Assistant Administrator finds good cause to waive the 30-day delay in the date of effectiveness for this final rule because such a delay would be contrary to the public interest. The Pacific whiting fishery season began on May 1, 2025 under interim allocations based on a proxy coastwide TAC analyzed in the 2025 Pacific whiting stock assessment (see ADDRESSES). This proxy coastwide TAC was 350,000 mt, which is approximately 12.5 percent lower than the 2025 adjusted coastwide TAC of 400,000 mt recommended by the JMC and approved by the Secretary. If the non-Tribal commercial sectors fully harvest this partial interim allocation before the final TAC is implemented, NMFS will be required to close the Pacific whiting fishery until such time that the full 2025 season allocation is implemented. Timely implementation of the full TAC will avoid the need to close the Pacific whiting fishery if the current interim allocations are fully harvested.

As the Pacific whiting season is only open from May 1 to December 31, a 30-day delay in the implementation of the full 2025 season allocations represents a significant operational limitation to the commercial whiting sectors. If this final rule were delayed by 30 days, the Pacific whiting commercial sectors would not be able to fish under the final catch limits for Pacific whiting for that time period, be at risk of potential premature season closure, and would not be able to realize the full level of economic opportunity this rule provides. This rule increases catch limits for Pacific whiting compared to the restrictive partial interim allocation the fishery is currently operating under, and NMFS therefore finds good cause to waive the 30-day delay in the date of effectiveness requirement.

Additionally, many vessels in the Pacific whiting fishery also participate in the Alaskan pollock fishery. The Alaskan pollock fishery B-season typically runs from mid-June to mid-November of each year, overlapping with the May 1 to December 31 Pacific whiting season. Vessels that participate in both the West Coast Pacific whiting fishery, and the Alaskan pollock fishery must time operations and travel between these fisheries. Without having access to their full 2025 Pacific whiting season allocations, fishery participants are unable to plan the timing of their operations, and are restricted in their participation in these fisheries for the 2025 season. Issuing complete 2025 Pacific whiting allocations to quota owners in a timely fashion ensures they can plan their participation for the year in both the Pacific whiting and Alaskan pollock fisheries. Implementing this rule upon the date of publication relieves the limitation in planning vessel operations and provides the commercial whiting fleet more opportunity and greater flexibility to harvest the optimal yield. Waiving the 30-day delay in effectiveness will allow this final rule to more fully benefit the fishery through increased fishing opportunities as described in the preamble of this rule.

This rulemaking could not be completed prior to the May 1 start date of the 2025 Pacific Whiting primary fishing season due to the timeline required by the Agreement, which resulted in the short time frame between the approval of the TAC recommendation and the start of the fishing season. The AP and JMC met in Victoria, British Columbia on March 11-13, 2025, to develop a recommendation for a 2025 coastwide TAC. At this meeting, the JMC agreed on a TAC recommendation, which was transmitted to the United States and Canadian Governments on March 13, 2025. In a written communication to the NMFS West Coast Region on April 1, 2025, the Department of State concurred with the 2025 TAC recommendation. The proposed rule was published on April 15, 2025 (90 FR 15675). The Department of Commerce consulted with the Department of State on the recommended TAC and concurred with the NMFS West Coast Region on April 17, 2025 to accept the JMC recommended adjusted TAC for 2025. The public comment period closed on April 30, 2025. The 2025 Pacific whiting primary fishing season began shortly thereafter on May 1, 2025. Therefore, NMFS could not issue full season allocations implemented under this final rule prior to the May 1 start date of the Pacific whiting fishery.

Waiving the 30-day delay in effectiveness will not have a negative impact on any entities, as there are no new compliance requirements or other burdens placed on the fishing community with this rule. Making this rule effective immediately would also serve the best interests of the public because it will allow for the longest possible fishing season for Pacific whiting and therefore the best possible economic outcome for those whose livelihoods depend on this fishery.

The Office of Management and Budget has determined that this final rule is not significant for purposes of Executive Order 12866.

This final rule is not an Executive Order 14192 regulatory action because this action is not significant under Executive Order 12866.

A range of potential total harvest levels for Pacific whiting has been considered in the Final Environmental Impact Statement (FEIS) for Harvest Specifications and Management Measures for 2015-2016 and Biennial Periods thereafter (2015/16 FEIS), and in the Environmental Assessment (EA) and the Regulatory Impact Review (RIR) included in the analytical document for Amendment 30 to the Pacific Coast Groundfish FMP and 2025-2026 Harvest Specifications and Management Measures. These documents are available from NMFS (see ADDRESSES). The 2015/16 FEIS examined the harvest specifications and management measures for 2015-2016 and gave 10-year projections for routinely adjusted harvest specifications and management measures. The 10-year projections were produced to evaluate the impacts of the ongoing implementation of harvest specifications and management measures and to evaluate the impacts of the routine adjustments that are the main component of each biennial cycle. The EA for the 2025-2026 cycle builds on the 2015/16 FEIS and focuses on the harvest specifications and management measures that were not within the scope of the 10-year projections in the 2015/16 FEIS.

Final Regulatory Flexibility Analysis

NMFS issued a proposed rule on April 15, 2025 (90 FR 15675) for the 2025 Pacific whiting Tribal allocation and 2025 incidental set-aside. An Initial Regulatory Flexibility Analysis (IRFA) was prepared and summarized in the Classification section of the preamble to the proposed rule. The comment period on the proposed rule closed April 30, 2025. NMFS received two public comments in support of the proposed rule, and one that was not relevant. The Chief Counsel for Advocacy of the Small Business Administration (SBA) did not file any comments on the IRFA or on the proposed rule. The description of this action, its purpose, and its legal basis are described in the preamble to the proposed rule and are not repeated here. A FRFA was prepared and incorporates the IRFA. There were no public comments received on the IRFA. A copy of the FRFA is available from NMFS (see ADDRESSES). A summary of the FRFA, per the requirements of 5 U.S.C. 604, follows.

Under the RFA, the term “small entities” includes small businesses, small organizations, and small governmental jurisdictions. For purposes of complying with the RFA, NMFS has established size criteria for entities involved in the fishing industry that qualify as small businesses. A business involved in fish harvesting is a small business if it is independently owned and operated and not dominant in its field of operation (including its affiliates) and if it has combined annual receipts not in excess of $11 million for all its affiliated operations worldwide (80 FR 81194, December 29, 2015; 50 CFR part 200). In addition, the SBA has established size criteria for other entities that may be affected by this proposed rule. A wholesale business servicing the fishing industry is a small business if it employs 100 or fewer persons on a full time, part time, temporary, or other basis, at all its affiliated operations worldwide (NAICS code 424460; 13 CFR 121.201). A seafood processor is a small business if it is independently owned and operated, not dominant in its field of operation, and employs 750 or fewer persons on a full time, part time, temporary, or other basis, at all its affiliated operations worldwide (NAICS code 311710; 13 CFR 121.201). For purposes of this rulemaking, NMFS is also applying the seafood processor standard to C/Ps because whiting C/Ps earn the majority of the revenue from processed seafood product.

A Summary of the Significant Issues Raised by the Public in Response to the IRFA, a Summary of the Agency's Assessment of Such Issues, and a Statement of Any Changes Made in the Final Rule as a Result of Such Comments

NMFS issued a proposed rule on April 15, 2025 (90 FR 15675). The comment period on the proposed rule closed on April 30, 2025, and NMFS received three comments. Two of the comments received supported the action. Neither of those comments provided further recommendations for changes to the proposed action. The third comment received was not relevant to this rulemaking.

Description and Estimate of the Number of Small Entities To Which the Rule Applies

This rule affects how Pacific whiting is allocated to the following sectors/programs: Tribal, Shorebased IFQ Program Trawl Fishery, MS Co-op Program Whiting At-sea Trawl Fishery, and C/P Co-op Program Whiting At-sea Trawl Fishery. The amount of Pacific whiting allocated to these sectors is based on the U.S. TAC, which is developed and approved through the process set out in the Agreement and the Whiting Act.

NMFS expects one Tribal entity, the Makah Tribe, to fish for Pacific whiting in 2025. Tribes are not considered small entities for the purposes of RFA. Impacts to Tribes are nevertheless considered in this analysis.

Although there are three non-Tribal sectors directly affected by this rule (the C/P Co-op Program, the Shorebased IFQ Program, and the MS Co-op Program), many companies participate in two sectors, and some participate in all three sectors, as well as other non-whiting groundfish fisheries. For example, some companies may own permits in both the C/P and MS sectors, and own vessels capable of operating as either a C/P or an MS. Depending on the operational needs of the parent company in a given year, a C/P vessel may be assigned a permit to alternatively act as an MS. As part of the permit application processes for the non-Tribal fisheries, NMFS asks permit applicants if they considered themselves a small business based on a review of the SBA size criteria and asks each permit applicant to provide detailed ownership information. Data on employment worldwide, including affiliates, are not available for these companies, which generally operate in Alaska as well as on the West Coast in non-whiting groundfish fisheries and may have operations in other countries, as well. NMFS requests that limited entry permit holders self-report their size status. There is substantial, but not complete, overlap between permit ownership and vessel ownership, so there may be a small number of additional small entity vessel owners who will be impacted by this rule.

The C/P Co-op Program is composed of 10 C/P endorsed permits owned by 3 companies that have formed a single co-op. This co-op is considered a large entity both because it has participants that are large entities and because it has in total more than 750 employees worldwide including affiliates. For 2025, all 3 owners of the 10 C/P permits reported that they are not small businesses.

As of January 2025, the Shorebased IFQ Program is composed of 158 Quota Share permits/accounts (120 of which were allocated whiting quota pounds (54 kilograms) and 39 licensed first receiver sites, of which 7 companies receive whiting. Of these companies that receive whiting, six are not considered small entities.

The MS Co-op Program is the limited access program that applies to eligible harvesters and processors in the MS sector of the Pacific whiting at-sea trawl fishery. In 2025 this program consists of 6 MS processor permits and a catcher vessel fleet currently composed of a single co-op with 33 Mothership/Catcher Vessel endorsed permits (with 3 permits each having two catch history assignments). For 2025, 8 permits in the MS Co-op reported that they are not small businesses.

An Explanation of the Criteria Used To Evaluate Whether the Rule Would Impose Effects on “a Substantial Number” of Small Entities

After accounting for cross-fishery participation, multiple Quota Share account holders, and affiliation through ownership, NMFS estimates based on 2025 permit registration and quota share information that there are 100 non-Tribal entities directly affected by these regulations, 86 of which are considered small entities. This is considered a significant number of small entities. This rule is not expected to result in adverse impacts on small entities, as detailed in the following sections of this FRFA.

Estimate of Economic Impacts by Entity Size and Industry

The final rule will allocate Pacific whiting between Tribal and non-Tribal commercial harvesters (a mixture of small and large businesses). Tribal fisheries consist of a mixture of fishing activities that are similar to the activities that non-Tribal fisheries undertake. Tribal harvests may be delivered to both shoreside plants and motherships for processing. These processing facilities also process fish harvested by non-Tribal fisheries. The effect of the Tribal allocation on non-Tribal fisheries will depend on the level of Tribal harvests relative to their allocation and the reapportionment process as described in regulations at 50 CFR 660.131(h). If the Tribes do not harvest their entire allocation, there are opportunities during the year to reapportion unharvested Tribal amounts to the non-Tribal commercial fleets.

The prices for Pacific whiting are largely determined by the world market because most of the Pacific whiting harvested in the United States is exported. The U.S. Pacific whiting TAC is highly variable, as is subsequent attainment of sector allocations, and ex-vessel revenues. For the years 2013 to 2023, the U.S. non-Tribal commercial fishery sectors averaged harvests of approximately 262,531 mt, and revenues of $52.7 million annually. The 2024 average ex-vessel price of Pacific whiting, which was $230.91 per mt. The 2024 U.S. non-Tribal commercial fishery sectors attained a Pacific whiting catch of approximately 165,061 mt out of a harvest guideline of 337,528 mt (48.9 percent attainment), resulting in a total revenue of $46.6 million.

Impacts to the U.S. non-Tribal fishery are measured with an estimate of ex-vessel revenue. The adjusted coastwide TAC of 400,000 mt results in an adjusted U.S. TAC of 295,520 mt and, after deduction of the Tribal allocation and the incidental catch set-aside, a U.S. non-tribal harvest guideline of 243,054 mt. Using the 2024 weighted-average non-Tribal price of $230.91 per mt, the 2025 adjusted U.S. TAC is estimated to result in an ex-vessel revenue of $56.12 million for the U.S. non-tribal fishing fleet if 100 percent harvested. Due to operational constraints in 2025, the U.S. commercial sectors estimate a 75 percent attainment of the U.S. HG which would result in an ex-vessel revenue of $42.09 million.

Impacts to Tribal catcher vessels who elect to participate in the Tribal fishery are measured with an estimate of ex-vessel revenue. In lieu of more complete information on Tribal deliveries, total ex-vessel revenue is estimated with the 2024 average ex-vessel price of Pacific whiting, which was $230.91 per mt. At that price, the 2025 Tribal allocation of 51,716 mt would potentially have an ex-vessel value of $11.94 million if fully harvested.

The effect of the Tribal allocation on non-Tribal fisheries will depend on the level of Tribal harvests relative to their allocation and the reapportionment process. For example, in 2024 NMFS reapportioned 40,000 mt of the original 71,755.95 mt Tribal allocation (89 FR 84302, October 22, 2024). The revised Pacific whiting allocations for 2024 following the reapportionment were: Tribal 26,755.95 mt; C/P Co-op 130,059.53 mt; MS Co-op 91,806.73 mt; and Shorebased IFQ Program 160,661.78 mt. Shoreside processors are unlikely to be impacted by allocating U.S, Pacific whiting TAC between Tribal and non-Tribal sectors because they can receive and process landings from both Tribal and non-Tribal catcher vessels.

Regulatory Flexibility Act Determination of No Significant Impact

NMFS has determined this final rule would not have a significant economic impact on small entities. This rule is similar to previous rulemakings concerning Pacific whiting. In the context of an internationally set TAC, this rule concerns the amount of the U.S. TAC that should be allocated to the Tribal fishery and to a set-aside for research and bycatch in non-groundfish fisheries, and announces Pacific whiting allocations for the non-Tribal fishery for 2025. With this final rule, NMFS, acting on behalf of the Secretary, determined that the Pacific Coast Groundfish FMP is implemented in a manner consistent with treaty rights of four Treaty Tribes to fish in their “usual and accustomed grounds and stations” in common with non-tribal citizens (United States v. Washington, 384 F. Supp. 313 (W.D. Wash. 1974)). Pacific whiting allocations to the non-Tribal sectors provide additional economic opportunity to the entities considered in this analysis to prosecute a quota species within a multi-species groundfish catch share program. In addition, the reapportioning process allows unharvested Tribal allocations of Pacific whiting, fished by small entities, to be fished by the non-Tribal fleets, potentially providing economic benefits to both large and small entities. NMFS believes this rule will not adversely affect small entities. Thus, as discussed above, this action would not have a significant economic impact on small entities. The TAC recommendation and resulting non-Tribal commercial sector allocations are based on the Treaty-based JMC recommendation and are non-discretionary, therefore NMFS did not consider any other alternatives.

This final rule contains no information collection requirements under the Paperwork Reduction Act of 1995 (44 U.S.C. 3501 et seq.).

No Federal rules have been identified that duplicate, overlap, or conflict with this action.

Small Entity Compliance Guide

Section 212 of the Small Business Regulatory Enforcement Fairness Act of 1996 states that, for each rule or group of related rules for which an agency is required to prepare a FRFA, the agency shall publish one or more guides to assist small entities in complying with the rule and shall designate such publications as “small entity compliance guides.” The agency shall explain the actions a small entity is required to take to comply with a rule or group of rules. Stakeholders subscribed to the Groundfish and Whiting listservs will be sent a public notice providing links to the final rule and the small entity compliance guide available from NMFS at the following website: https://www.fisheries.noaa.gov/action/2025-pacific-whiting-us-total-allowable-catch-2025-tribal-allocation-2025-incidental-set. Stakeholders will receive the notice without any further action on their end.

List of Subjects in 50 CFR Part 660

Fisheries, Fishing, Indian Fisheries.

Dated: June 23, 2025.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(17) to read as follows:

§ 660.50 Pacific Coast treaty Indian fisheries.

* * * * *

(f) * * *

(17) Pacific whiting. The Tribal allocation for 2025 is 51,716 mt, which is 17.5 percent of the 295,520 mt U.S. TAC.

* * * * *

3. Amend Table 1a to part 660, subpart C-2025, Specifications of OFL, ABC, ACL, ACT and Fishery HG, by revising the entry for “Pacific Whiting” and its footnote to read as follows:

Table 1a to Part 660, Subpart C—2025, Specifications of OFL, ABC, ACL, ACT and Fishery HG
Table 1a. to Part 660, Subpart C—2025, Specifications of OFL, ABC, ACL, ACT and Fishery HG (Weights in Metric Tons). Capitalized stocks are rebuilding.
Stocks | Area | OFL | ABC | ACL ᵃ | Fishery HG ᵇ
* * * * * * *
Pacific Whiting ᵈ | Coastwide | 560,742 | (ᵈ) | (ᵈ) | 243,054 (ᵈ)
* * * * * * *
* * * * * * *
ᵈ Pacific hake/whiting. The 2025 OFL of 560,742 mt is based on the 2025 assessment with an F-40 percent of FMSY proxy. The 2025 coastwide adjusted Total Allowable Catch (TAC) is 400,000 mt. The U.S. TAC is 73.88 percent of the coastwide TAC. The 2025 adjusted U.S. TAC is 295,520 mt. From the U.S. TAC, 51,716 mt is deducted to accommodate the Tribal fishery, and 750 mt is deducted to accommodate research and bycatch in other fisheries, resulting in a 2025 non-Tribal fishery HG of 243,054 mt. The TAC for Pacific whiting is established under the provisions of the Agreement between the Government of the United States of America and the Government of Canada on Pacific Hake/Whiting of 2003 and the Pacific Whiting Act of 2006, 16 U.S.C. 7001-7010, and the international exception applies. Therefore, no ABC or ACL values are provided for Pacific whiting.

* * * * *

4. Amend Table 1b to part 660, subpart C, by revising the entry for “Pacific Whiting” to read as follows:

Table 1b. to Part 660, Subpart C—2025, Allocations by Species or Species Group
Table 1b to Part 660, Subpart C—2025, Allocations by Species or Species Group [Weight in Metric Tons]
Stocks/stock complexes | Area | Fishery HG or ACT ᵃ ᵇ | Trawl: % | Trawl: Mt | Non-trawl: % | Non-trawl: Mt
* * * * * * *
Pacific whiting | Coastwide | 243,054 | 100 | 243,054 | 0 | 0
* * * * * * *

5. In § 660.140, amend table 1 to paragraph (d)(1)(ii)(D) by revising the entry for “Pacific Whiting” to read as follows:

§ 660.140 Shorebased IFQ Program.

* * * * *

(d) * * *

(1) * * *

(ii) * * *

(D) * * *

Table 1 to Paragraph (d)(1)(ii)(D)—Shorebased Trawl Allocations for 2025 and 2026
IFQ species | Area | 2025 Shorebased trawl allocation (mt) | 2026 Shorebased trawl allocation (mt)
* * * * * * *
Pacific whiting ᵃ | Coastwide | 102,082.68 | TBD
* * * * * * *
ᵃ Managed through an annual international process. These allocations will be updated when announced.

[FR Doc. 2025-11726 Filed 6-25-25; 8:45 am]

BILLING CODE 3510-22-P